DEPARTMENT OF COMMERCE

International Trade Administration

[A-489-807]

Certain Steel Concrete Reinforcing Bars From Turkey; Final Results and Final Partial Rescission of Antidumping Duty Administrative Review

AGENCY: Import Administration, International Trade Administration, Department of Commerce.

SUMMARY: On May 6, 2009, the Department of Commerce (the Department) published the preliminary results of the administrative review of the antidumping duty order on certain steel concrete reinforcing bars (rebar) from Turkey. This review covers two producers/exporters of the subject merchandise to the United States. The period of review (POR) is April 1, 2007, through March 25, 2008.

Based on our analysis of the comments received, we have made certain changes in the margin calculations. The final results, consequently, differ from the preliminary results. The final weighted-average dumping margins for the reviewed firms are listed below in the section entitled “Final Results of Review.”

EFFECTIVE DATE: September 3, 2009.

FOR FURTHER INFORMATION CONTACT: Hector Rodriguez or Holly Phelps, AD/CVD Operations, Office 2, Import Administration - Room 1870, International Trade Administration, U.S. Department of Commerce, 14th Street and Constitution Avenue, NW, Washington, DC 20230; telephone: (202) 482-0629 or (202) 482-0656, respectively.

SUPPLEMENTARY INFORMATION:

Background

The administrative review covers the following two producers/exporters: Ekinciler Demir ve Celik Sanayi A.S. and Ekinciler Dis Ticaret A.S. (collectively, “Ekinciler”), and Kaptan Demir Celik Endustrisi ve Ticaret A.S. (Kaptan).

On May 6, 2009, the Department published in the Federal Register the preliminary results of the 2007-2008 administrative review of the antidumping duty order on rebar from Turkey. See Certain Steel Concrete Reinforcing Bars from Turkey; Preliminary Results and Preliminary Partial Rescission of Antidumping Duty Administrative Review, 74 FR 20911 (May 6, 2009) (Preliminary Results).

We invited parties to comment on our preliminary results. In June 2009, we received a case brief from Kaptan. We did not receive rebuttal briefs from any party. The Department has conducted this administrative review in accordance with section 751 of the Tariff Act of 1930, as amended (the Act).

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this order is dispositive.

Period of Review

The POR is April 1, 2007, through March 25, 2008.

Partial Rescission of Review

In April 2008, the Department received timely requests, in accordance with 19 CFR 351.213(b)(1), from the domestic interested parties to conduct a review for Ege Celik Endustrisi Sanayi ve Ticaret A.S. (Ege Celik), Izmir Demir Celik Sanayi A.S. (IDC), Kroman Celik Sanayi A.S. (Kroman), and Nursan Celik Sanayi ve Haddecilik A.S. (Nursan), and in June 2008 the Department initiated an administrative review of these four companies. During this same month, each of these respondents informed the Department that it did not export rebar to the United States during the POR. We have confirmed this with U.S. Customs and Border Protection (CBP). See the April 30, 2009, memorandum to the file from Hector Rodriguez, Analyst, entitled, “Confirmation of No Shipments for Certain Companies in the 2007-2008 Antidumping Duty Administrative Review on Certain Steel Concrete Reinforcing Bars from Turkey.” Therefore, in accordance with 19 CFR 351.213(d)(3), and consistent with the Department's practice, we are rescinding our review with respect to Ege Celik, IDC, Kroman, and Nursan. See, e.g., Certain Frozen Warmwater Shrimp from Thailand: Final Results and Final Partial Rescission of Antidumping Duty Administrative Review, 72 FR 52065, 52067 (Sept. 12, 2007); and Certain Steel Concrete Reinforcing Bars From Turkey; Final Results, Rescission of Antidumping Duty Administrative Review in Part, and Determination To Revoke in Part, 70 FR 67665, 67666 (Nov. 8, 2005).

Cost of Production

As discussed in the Preliminary Results, we conducted an investigation to determine whether Ekinciler and Kaptan made home market sales of the foreign like product during the POR at prices below their costs of production (COP) within the meaning of section 773(b)(1) of the Act. We performed the cost test for these final results following the same methodology as in the Preliminary Results. We found 20 percent or more of Ekinciler's and Kaptan's sales of a given product during the reporting period were at prices less than the weighted average COP for this period. Thus, we determined that these below-cost sales were made in “substantial quantities” within an extended period of time and at prices which did not permit the recovery of all costs within a reasonable period of time in the normal course of trade. See sections 773(b)(2)(B) - (D) of the Act.

Therefore, for purposes of these final results, we found that Ekinciler and Kaptan made below-cost sales not in the ordinary course of trade. Consequently, we disregarded these sales for Ekinciler and Kaptan and used the remaining sales as the basis for determining NV pursuant to section 773(b)(1) of the Act.

Analysis of Comments Received

The issues raised in Kaptan's case brief are listed in the Appendix to this notice and addressed in the Decision Memo, which is adopted by this notice. Parties can find a complete discussion of all issues raised in this review and the corresponding recommendations in this public memorandum, which is on file in the Central Records Unit, room 1117, of the main Department building.

In addition, a complete version of the Decision Memo can be accessed directly on the Web at http://ia.ita.doc.gov/frn/. The paper copy and electronic version of the Decision Memo are identical in content.

Changes Since the Preliminary Results

Based on our analysis of the comments received, we have made certain changes in the margin calculation for Kaptan. These changes are discussed in detail in the relevant sections of the Decision Memo.

Final Results of Review

We determine that the following weighted-average margin percentages exist for the period April 1, 2007, through March 25, 2008:

Manufacturer/Producer/Exporter | Margin Percentage
Ekinciler Demir ve Celik Sanayi A.S./Ekinciler Dis Ticaret A.S. | 0.35
Kaptan Demir Celik Endustrisi ve Ticaret A.S. | 0.00

Assessment

The Department shall determine, and CBP shall assess, antidumping duties on all appropriate entries, in accordance with 19 CFR 351.212. Pursuant to 19 CFR 351.212(b)(1), we calculated importer-specific assessment rates for each respondent based on the ratio of the total amount of antidumping duties calculated for the examined sales to the total entered value of those sales.

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate unreviewed entries at the all-others rate if there is no rate for the intermediate company(ies) involved in the transaction.

Cash Deposit Requirements

In December 2008, the International Trade Commission (ITC) determined, pursuant to section 751(c) of the Act, that revocation of this order would not be likely to lead to the continuation or recurrence of material injury to an industry in the United States within a reasonably foreseeable time. See Steel Concrete Reinforcing Bar From Turkey; Determination, 73 FR 77841 (Dec. 19, 2008). See also Steel Concrete Reinforcing Bars from Turkey, Inv. No. 701-TA-745 (Second Review), USITC Pub. 4 (Jan. 2009). As a result of the ITC's negative determination, the Department revoked the order on rebar from Turkey on January 5, 2009, effective as of March 26, 2008 (i.e., the fifth anniversary of the date of publication in the Federal Register of the notice of continuation of this antidumping duty order). See Revocation of Antidumping Duty Order: Certain Steel Concrete Reinforcing Bars from Turkey, 74 FR 266 (Jan. 5, 2009). Consequently, the collection of cash deposits of antidumping duties on entries of the subject merchandise is no longer required.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act and 19 CFR 351.221(b)(5).

Dated: August 27, 2009.
Ronald K. Lorentzen,
Acting Assistant Secretary for Import Administration.

Appendix - Issues in Decision Memorandum

Company-Specific Issues

1. Duty Drawback Adjustment for Kaptan

2. Cost of Raw Materials Adjustment for Kaptan

3. Date of Sale for Kaptan

4. Affiliated Party Freight Revenue for Kaptan

[FR Doc. E9-21321 Filed 9-2-09; 8:45 am]

BILLING CODE 3510-DS-S